DEPARTMENT OF STATE

[Public Notice: 8826]

Amended Notice of Intent To Prepare a Supplemental Environmental Impact Statement (SEIS) and To Conduct Additional Scoping for the Proposed Enbridge Energy, Limited Partnership Line 67 Expansion Project

AGENCY: Department of State.

ACTION: Notice; solicitation of comments.

SUMMARY: On March 15, 2013, the U.S. Department of State (the Department) issued a Notice of Intent To Prepare a Supplemental Environmental Impact Statement (SEIS) and To Conduct Scoping and To Initiate Consultation Consistent With the National Environmental Policy Act (NEPA) and Section 106 of the National Historic Preservation Act (NHPA) for the Proposed Enbridge Energy, Limited Partnership, Line 67 Capacity Expansion Project (2013 NOI) in the Federal Register (78 FR 16565-67). The 2013 NOI informed the public that the Department would be preparing an SEIS in support of its review of a November 2012 application from Enbridge Energy, Limited Partnership (Enbridge) for a new Presidential Permit that would, if granted, authorize Enbridge to operate its existing Line 67 at the pipeline's full design capacity. A description of the proposed project is included in the 2013 NOI.

Since that time, Enbridge has amended and supplemented its November 2012 application. In June 2014, Enbridge informed the Department that Enbridge intends to increase pumping capacity outside of the Line 67 “border segment” (the portion of Line 67 from the Canadian border to the first main line shut-off valve, which is the segment that would be covered by a Presidential Permit), and to interconnect Line 67 with another Enbridge line (Line 3) on either side of the border segment. Enbridge is proceeding with certain elements of these plans. Enbridge submitted documents for public release in July 2014 which can be found at http://www.state.gov/e/enr/applicant/applicants/c55571.htm. In light of the changes in the project description, the Department is issuing this amended NOI and is conducting additional public scoping. In addition, a different third-party contractor is assisting the Department with the SEIS process than the firm that was named in the 2013 NOI.

DATES: The Department invites U.S. agencies, organizations, tribal governments, and members of the public to submit comments to assist the Department in identifying environmental and other relevant issues, any measures that might be adopted to reduce the proposed Project's environmental impacts, and other information relevant to determining the scope of the SEIS. The 30-day public scoping period begins with the publication of this Notice on August 18, 2014 and ends on September 17, 2014. Comments submitted electronically through www.regulations.gov as described below are strongly encouraged, but all comments will be given equal weight. The Department will consider comments received or postmarked by September 17, 2014. Comments received during the scoping period that followed the March 15, 2013 NOI will also be considered by the Department and do not need to be resubmitted. Comments received outside these scoping periods may be considered to the extent practicable.

All comments received during the additional scoping period may be made public, no matter how initially submitted. Comments are not private and will not be edited to remove identifying or contact information. The Department cautions commenters against including any information that they would not want publicly disclosed. The Department further requests that any party soliciting or aggregating comments from other persons direct those persons not to include any identifying or contact information, or information they would not want publicly disclosed, in their comments.

ADDRESSES: Parties may submit comments through the Federal eRulemaking Portal (http://www.regulations.gov) by entering the title of this Notice and following the prompts. Written comments should be addressed to: Ms. Mary D. Hassell, U.S. Department of State, 2201 C Street NW., Room 2726, Washington, DC 20520. As described above, comments are not private.

FOR FURTHER INFORMATION CONTACT: Project details on the Enbridge application for a new Presidential Permit for Line 67 (including the amendment thereto), as well as information on the Presidential Permit process, are available on the following Web site: http://www.state.gov/e/enr/applicant/applicants/. Please refer to this Web site or contact Ms. Mary D. Hassell at the address listed in the Addresses section of this notice.

Dated: August 12, 2014.
Deborah Klepp
Director, Office of Environmental Quality and Transboundary Issues, Department of State.

[FR Doc. 2014-19538 Filed 8-15-14; 8:45 a.m.]

BILLING CODE 4710-09-P